DEPARTMENT OF ENERGY

Federal Energy Regulatory Commission

Notice of Ferc Staff Attendance at Southwest Power Pool Independent Coordinator of Transmission (ICT)—Entergy Transmission Summit and Technical Conference Regarding the ICT Construction and Base Plans

July 16, 2009.

The Federal Energy Regulatory Commission hereby gives notice that members of its staff may attend the meetings noted below. Their attendance is part of the Commission's ongoing outreach efforts.

Technical Conference Regarding the ICT Construction and Base Plans and the Annual ICT—Entergy Transmission Summit

August 11, 2009 (8 a.m.-5 p.m.),

Astor Crowne Plaza Hotel,

739 Canal Street,

New Orleans, LA 70130,

504-962-0500.

The discussions may address matters at issue in the following proceedings:

Docket No. OA07-32 Entergy Services, Inc.

Docket No. OA08-59 Entergy Services, Inc.

Docket No. OA08-61 Entergy Services, Inc.

Docket No. OA08-75 Entergy Services, Inc.

Docket No. OA08-92 Entergy Services, Inc.

Docket No. OA08-149 Entergy Services, Inc.

Docket No. EL00-66 Louisiana Public Service Commission v. Entergy Services, Inc.

Docket No. EL01-88 Louisiana Public Service Commission v. Entergy Services, Inc.

Docket No. EL05-15 Arkansas Electric Cooperative Corp. v. Entergy Arkansas, Inc.

Docket No. EL07-52 Louisiana Public Service Commission v. Entergy Services, Inc.

Docket No. EL08-59 ConocoPhillips v. Entergy Services, Inc.

Docket No. EL08-60 Union Electric v. Entergy Services, Inc.

Docket No. EL09-35 Cottonwood Energy LLP v. Entergy Services, Inc.

Docket No. EL09-43 Arkansas Public Service Commission v. Entergy Services, Inc.

Docket No. EL09-61 Louisiana Public Service Commission v. Entergy Services, Inc.

Docket No. ER03-583 Entergy Services, Inc.

Docket No. ER05-1065 Entergy Services, Inc.

Docket No. ER07-682 Entergy Services, Inc.

Docket No. ER07-956 Entergy Services, Inc.

Docket No. ER08-515 Entergy Services, Inc.

Docket No. ER08-767 Entergy Services, Inc.

Docket No. ER08-1057 Entergy Services, Inc.

Docket No. ER09-636 Entergy Services, Inc.

Docket No. ER09-659 Entergy Services, Inc.

Docket No. ER09-833 Entergy Services, Inc.

Docket No. ER09-877 Entergy Services, Inc.

Docket No. ER09-878 Entergy Services, Inc.

Docket No. ER09-882 Entergy Services, Inc.

Docket No. ER09-985 Entergy Services, Inc.

These meetings are open to the public.

For more information, contact Patrick Clarey, Office of Energy Market Regulation, Federal Energy Regulatory Commission at (317) 249-5937 or patrick.clarey@ferc.gov.

Kimberly D. Bose,
Secretary.

[FR Doc. E9-17503 Filed 7-22-09; 8:45 am]

BILLING CODE 6717-01-P